NATIONAL CREDIT UNION ADMINISTRATION

Notice of Change in Subject and Time of Meeting

The National Credit Union Administration Board determined that its business required the deletion of the following item from the previously announced closed meeting (Federal Register, Vol. 67, No. 199, pp. 63682-63683, October 15, 2002) scheduled for Thursday, October 17, 2002.

1. Administrative Action under Part 702 of NCUA's Rules and Regulations. Closed pursuant to Exemptions (8), (9)(A)(ii) and (9)(B).

The Board voted unanimously that this item be removed from the closed agenda.

The previously announced item were:

1. Administrative Action under Part 702 of NCUA's Rules and Regulations. Closed pursuant to Exemptions (8), (9)(A)(ii) and (9)(B).

2. One (1) Personnel Matter. Closed pursuant to Exemptions (2) and (6).

In addition, the time of the previously announced closed Board meeting was changed from 11:30 a.m. on October 17, 2002 to 9:15 a.m. on the same date.

For Further Information Contact: Becky Baker, Secretary of the Board, Telephone (703) 518-6304.

Becky Baker,
Secretary of the Board.

[FR Doc. 02-26901 Filed 10-17-02; 4:51 pm]

BILLING CODE 7535-01-M